CIVIL RIGHTS COMMISSION

Sunshine Act Meeting Notice

AGENCY: United States Commission on Civil Rights.

ACTION: Notice of Commission public business meeting.

DATES: Friday, June 7, 2019, 11:30 a.m. EDT.

ADDRESSES: Place: National Place Building, 1331 Pennsylvania Ave. NW, 11th Floor, Suite 1150, Washington, DC 20425. (Entrance on F Street NW.)

FOR FURTHER INFORMATION CONTACT: Brian Walch: (202) 376-8371; TTY: (202) 376-8116; publicaffairs@usccr.gov.

SUPPLEMENTARY INFORMATION: This business meeting is open to the public. There will also be a call-in line (listen-only) for individuals who desire to hear the meeting and presentations: 877-211-3430, conference ID 837-0177. The meeting will live-stream at: https://www.youtube.com/user/USCCR/videos. (Subject to change.) Persons with disabilities who need accommodation should contact Pamela Dunston at (202) 376-8105 or at access@usccr.gov at least seven business days before the scheduled date of the meeting.

Meeting Agenda

I. Approval of Agenda

II. Business Meeting

A. Presentation by Connecticut State Advisory Committee (SAC) Chair on the Committee's recent Advisory Memorandum on Prosecutorial Practices

B. Presentation by Rhode Island State Advisory Committee Chair on the Committee's recent Advisory Memorandum on Voting Rights

C. Discussion and vote on project timeline for the Commission's project on Title IX and campus free speech

D. Discussion and vote on statement deadlines for the Commission's project on stand your ground laws

E. Discussion and vote on State Advisory Committee slates

• Virginia

• Kentucky

• Oregon

• South Carolina

F. Management and operations

• Staff Director's Report

G. [1:30 p.m. EDT] Speaker Series Presentation by historian David Carter: Stonewall at 50: The Movement for LGBT Civil Rights.

III. Adjourn Meeting

Dated: May 23, 2019.
Brian Walch,
Director, Communications and Public Engagement.

[FR Doc. 2019-11153 Filed 5-23-19; 4:15 pm]

BILLING CODE 6335-01-P